ENVIRONMENTAL PROTECTION AGENCY

40 CFR Part 52

[MT-001-0024, MT-001-0025, MT-001-0026; FRL-6986-1]

Clean Air Act Approval and Promulgation of Air Quality Implementation Plan; Montana; East Helena Lead State Implementation Plan

Correction

In rule document 01-15142 beginning on page 32760, in the issue of Monday, June 18, 2001, make the following correction:

On page 32762, in Table 1, under the heading “Description”, in the second line, “it” should read “if”.

[FR Doc. C1-15142 Filed 7-9-01; 8:45 am]

BILLING CODE 1505-01-D

DEPARTMENT OF TRANSPORTATION

Maritime Administration

[Docket Number: MARAD-2001-9993]

Requested Adminstrative Waiver of the Coastwise Trade Laws

Correction

In notice document 01-16308, beginning on page 34516, in the issue of Thursday, June 28, 2001 make the following correction:

On page 34516, in the second column, under the heading DATES:, in the second line “June 30, 2001” should read “July 30, 2001”.

[FR Doc. C1-16308 Filed 7-9-01; 8:45 am]

BILLING CODE 1505-01-D